POSTAL SERVICE

39 CFR Part 20

International Mailing Services: Price Changes and Minor Classification Changes To Go Into Effect on January 26, 2020

AGENCY: Postal Service ™.

ACTION: Final rule.

SUMMARY: On October 22, 2019, the Postal Service published proposed product and price changes to reflect price adjustments and other minor classification changes filed with the Postal Regulatory Commission (PRC). The PRC found that price adjustments and classification changes contained in the Postal Service's notification may go into effect on January 26, 2020. The Postal Service will revise Notice 123, Price List to reflect the new prices and Mailing Standards of the United States Postal Service, International Mail Manual (IMM®), to reflect minor classification changes.

DATES: Effective date: January 26, 2020.

FOR FURTHER INFORMATION CONTACT: Michelle Lassiter at 202-268-2914.

SUPPLEMENTARY INFORMATION:

I. Proposed Rule and Response

On October 9, 2019, the Postal Service filed a notice with the PRC in Docket No. R2020-1 of mailing services price adjustments, to be effective on January 26, 2020. On October 22, 2019, the Postal Service published a notification of proposed product and price changes in the Federal Register entitled “International Mailing Services: Proposed Product and Price Changes—CPI” (84 FR 56406). The notification included price changes that the Postal Service would adopt for products and services covered by IMM and publish in Notice 123, Price List, on Postal Explorer® at pe.usps.com. The Postal Service received no comments.

On October 9, 2019, in PRC Docket No. MC2020-7, the Postal Service proposed to update country names throughout mailing standards, changing “Macedonia, Republic of” to “North Macedonia, Republic of.” On October 22, 2019, the Postal Service published a notification of proposed product and price changes in the Federal Register entitled “International Mailing Services: Proposed Product and Price Changes—CPI” (84 FR 56406). That proposed rule noted that throughout IMM, all references to “Macedonia, Republic of” would be changed to “North Macedonia, Republic of” or the short name “North Macedonia” would be placed in correct alphabetical order in lists. The Postal Service received no comments.

II. Decision of the Postal Regulatory Commission

As stated in the PRC's Order No. 5321 issued on November 22, 2019, and the PRC's Order No. 5340, issued on December 6, 2019, in PRC Docket No. R2020-1, the PRC found that the prices in the Postal Service's notice in Docket No. R2020-1, may go into effect on January 26, 2020. The new prices will accordingly be posted in Notice 123, Price List on Postal Explorer at pe.usps.com.

As stated in the PRC's Order No. 5297, issued on November 8, 2019, in PRC Docket No. MC2020-7, the PRC approved the proposed minor classification changes replacing the country name of “Macedonia, Republic of” with “North Macedonia, Republic of.” The changes to the IMM will accordingly be posted in the January 26, 2020, revision of the IMM on Postal Explorer at pe.usps.com.

List of Subjects in 39 CFR Part 20

Foreign relations, International postal services.

Accordingly, 39 CFR part 20 is amended as follows:

PART 20—[AMENDED]

1. The authority citation for 39 CFR part 20 continues to read as follows:

Authority: 5 U.S.C. 552(a); 13 U.S.C. 301-307; 18 U.S.C. 1692-1737; 39 U.S.C. 101, 401, 403, 404, 407, 414, 416, 3001-3011, 3201-3219, 3403-3406, 3621, 3622, 3626, 3632, 3633, and 5001.

2. Revise the following sections of Mailing Standards of the United States Postal Service, International Mail Manual (IMM®), as follows:

Mailing Standards of the United States Postal Service, International Mail Manual (IMM)

* * * * *

[Throughout the IMM, change all references to “Macedonia, Republic of” to “North Macedonia, Republic of” and place in correct alphabetical order in lists. Revised sections include 213.5, 292.45, 322.2; the Index of Countries and Localities; the Country Price Groups and Weight Limits; and the Individual Country Listings.]

* * * * *

New prices will be listed in the updated Notice 123, Price List.

Joshua J. Hofer,
Attorney, Federal Compliance.

[FR Doc. 2019-28252 Filed 1-8-20; 8:45 am]

BILLING CODE 7710-12-P